Proclamation 10931 of May 5, 2025

National Hurricane Preparedness Week, 2025

By the President of the United States of America

A Proclamation

Every year, hurricanes destroy lives, striking some of our Nation's most beautiful regions and leaving devastation in their wake. National Hurricane Preparedness Week is a time to raise awareness about the dangers of these storms and encourage citizens in coastal areas and inland communities to be vigilant in emergency planning and preparation.

Hurricanes, storm surges, and flooding can wash away homes and properties, but the greatest threat is the loss of life, making readiness paramount. Those living in at-risk areas should have a family evacuation plan and a supply of non-perishable food, water, medicine, batteries, and other essential items.

This August marks the 20th anniversary of Hurricane Katrina, which caused widespread destruction and loss of life, leaving an indelible impact on the Louisiana Delta and Mississippi Coast. Tragically, in the decades since, other catastrophic hurricanes—most recently Helene and Milton—have devastated communities and shattered lives throughout our Nation.

In the aftermath of each storm, the intrepid American spirit emerged. It was evident in the professionalism and compassion of volunteers and organizations offering aid, comfort, and temporary shelter—and in the extraordinary resilience and strength of those left to rebuild their lives. I witnessed this firsthand in North Carolina after Hurricane Helene, where I met with survivors and local leaders working tirelessly to restore their communities.

I remain steadfastly committed to supporting hurricane recovery efforts and ensuring that Federal resources and tax dollars are allocated to American citizens in need. I signed an Executive Order giving State and local authorities a more significant role in resilience, preparedness, and rapid-response efforts. Local officials have the insight to make risk-informed decisions, deploy resources, manage operations, and eliminate ineffective bureaucracy so we can better serve affected communities.

As hurricane season approaches, I urge every household to recognize the dangers of severe weather, assess their risk, and develop a comprehensive plan to ensure disaster preparedness.

NOW, THEREFORE, I, DONALD J. TRUMP, President of the United States of America, by virtue of the authority vested in me by the Constitution and the laws of the United States, do hereby proclaim May 4 through May 10, 2025, as National Hurricane Preparedness Week. I call upon Americans living in hurricane-prone areas to safeguard their families, homes, and businesses from the dangers of hurricanes.

IN WITNESS WHEREOF, I have hereunto set my hand this fifth day of May, in the year of our Lord two thousand twenty-five, and of the Independence of the United States of America the two hundred and forty-ninth.

[FR Doc. 2025-08264

Filed 5-7-25; 11:15 am]

Billing code 3395-F4-P